DEPARTMENT OF COMMERCE

National Oceanic and Atmospheric Administration

50 CFR Part 660

[I.D. 122800A]

Coral Reef Ecosystem Fisheries of the Western Pacific Region; Public Hearings

AGENCY: National Marine Fisheries Service (NMFS), National Oceanic and Atmospheric Administration (NOAA), Commerce.

ACTION: Notice of public hearings.

SUMMARY: On June 16, 1999, NMFS announced its intent to prepare an Environmental Impact Statement (EIS) for the draft fishery management plan for coral reef ecosystems in the U.S. exclusive economic zone (EEZ) waters of the Western Pacific Region. The Draft Environmental Impact Statement (DEIS) has been prepared and is available to the public. The scope of the DEIS includes all activities related to the conduct of the fishery to be authorized by and managed under the proposed Fishery Management Plan (FMP) for Coral Reef Ecosystems of the Western Pacific Region. NMFS is holding public hearings to solicit public input on the range of actions, alternatives, and impacts addressed in the DEIS. In addition to holding the public hearings, NMFS is also accepting written comments on the DEIS.

DATES: Written comments will be accepted through February 26, 2001. See SUPPLEMENTARY INFORMATIONfor specific dates, times, and locations for these hearings.

ADDRESSES: Written comments and requests to be included on a mailing list of persons interested in the DEIS/EIS should be sent to Kitty Simonds, Western Pacific Fishery Management Council, NMFS, 1164 Bishop Street, Room 1400, Honolulu, HI 96813. Comments also may be faxed to 808-522-8226. Comments will not be accepted if submitted via e-mail or the Internet. Public hearings will be held in Hawaii, Guam, American Samoa (AS), and the Commonwealth of the Northern Mariana Islands (CNMI). For specific meeting locations, see SUPPLEMENTARY INFORMATION.

FOR FURTHER INFORMATION CONTACT: Kitty Simonds 808-522-8220.

SUPPLEMENTARY INFORMATION: On June 16, 1999 (64 FR 32210), NMFS announced its intent to prepare an EIS for the draft fishery management plan for coral reef ecosystems in U.S. EEZ waters of the Western Pacific Region. NMFS has prepared the DEIS and made it available to the public.

Dates, Times, and Locations for Public Hearings

1. Agana (Hagatna), Guam: January 16, 2001, 8 to 10 p.m., Guam Fishermen’s Cooperative Association, Hagatna Boat Basin, Agana (Hagatna), Guam.

2. Susupe Village, Saipan, CNMI: January 17, 2001, 8 to 10 p.m., Saipan Diamond Hotel, Hibiscus Room. No street address, Susupe Village, P.O. Box 66, CNMI.

3. Kahului, Maui, HI: January 19, 2001, 6 to 9 p.m., Lehi Kai Elementary School, 335 S. Papa Avene, Kahului, HI 96732; contact Kitty Simonds (see ADDRESSES) for further information.

4. Kaunakakai, Molokai, HI: January 22, 2001, 8 to 10 p.m., Mitchell Pauole Center, 90 Ainoa St., Kaunakakai, HI 96748.

5. Kona, Hawaii, HI: January 23, 2001, 8 to 10 p.m., King Kamehameha Hotel, 75-5660 Palani Road, Kona, HI 96740.

6. Hilo, Hawaii, HI: January 24, 2001, 8 to 10 p.m., Cooperative Extension Services, College of Agriculture, Conference Room B, 875 Komohana Street, Hilo, HI 96720.

7. Lihue, Kauai, HI: January 25, 2001, 6 to 9 p.m., Wilcox Elementary School, 4319 Hardy Street, Lihue, HI 96766; contact Kitty Simonds (see ADDRESSES) for further information.

8. Lanai, HI: January 26, 2001, 8 to 10 p.m., Lanai Airport Conference Room, Lanai, HI 96763.

9. Honolulu, Oahu, HI: January 29, 2001, 6 to 9 p.m., McCoy Pavilion, Ala Moana Regional Park, Ala Moana Boulevard, Honolulu, HI 96814; contact Kitty Simonds (see ADDRESSES) for further information.

10. Fagatogo, AS: February 5, 2001, 3 to 5 p.m., Department of Marine and Wildlife Resources (DMWR) conference room, Faratogo, AS. Phone contact c/o DMWR at 684-633-4456.

Special Accommodations

Requests for sign language interpretation or other auxiliary aids should be directed to Kitty Simonds (see ADDRESSES), 808-522-8220 (voice) or 808-522-8226 (facsimile), at least 5 days prior to the meeting date.

Authority: 16 U.S.C. 1801 et seq.

Dated: January 3, 2001.
Bruce C. Morehead,
Acting Director, Office 0f Sustainable Fisheries, National Marine Fisheries Service.

[FR Doc. 01-774 Filed 1-9-01; 8:45 am]

BILLING CODE 3510-22-S